DEPARTMENT OF DEFENSE

Department of the Army; Corps of Engineers

Availability of Draft Supplemental Environmental Impact Statement for the Wyoming Valley Levee Raising Project, Wilkes-Barre, PA

AGENCY: Department of the Army, U.S. Army Corps of Engineers, DOD.

ACTION: Notice of availability.

SUMMARY: In accordance with the requirements of the National Environmental Policy Act (NEPA), the U.S. Army Corps of Engineers (USACE), Baltimore District has prepared a Draft Supplemental Environmental Impact Statement (SEIS) for the design modifications and recreational enhancements to the Wyoming Valley Levee Raising Project at the Wilkes-Barre, Pennsylvania River Commons. The Draft SEIS investigates the potential environmental effects of an array of alternative plans based on the conceptual riverfront plan for Wilkes-Barre. The preferred alternative includes the addition of two portals through the levee, a river landing, fishing platform/dock, and an amphitheater and stage. We are making the Draft SEIS available to the public for a 45-day review and comment period.

DATES: Comments need to be received on or before September 20, 2004, to ensure consideration in final plan development. A public meeting on the recreational improvements to the Wyoming Valley Levee Draft SEIS will be held at Kings College Sheehy-Farmer Campus Center in Building #22, near the corner of West Union and North Main Streets in Wilkes-Barre, Pennsylvania on Wednesday, August 25, 2004 beginning at 7 p.m.

A map showing the location on the Kings Campus can be found at http://www.kings.edu/nvtour/campusmap.pdf.

ADDRESSES: Send written comments concerning this proposed project to U.S. Army Corps of Engineers, Baltimore District, Attn: Mr. William D. Abadie, CENAB-PL-P, P.O. Box 1715, Baltimore, MD 21203-1715. Submit electronic comments to william.d.abadie@usace.army.mil. Your comment must be contained in the body of your message; do not send attached files. Please include your name and address in your message.

FOR FURTHER INFORMATION CONTACT: Mr. William D. Abadie, Environmental Team Leader, (410) 962-4713 or (800) 295-1610.

SUPPLEMENTARY INFORMATION: Federal flood control projects along the Susquehanna River have protected communities in the Wyoming Valley of northeastern Pennsylvania since the late 1930's. However, in June 1972, Tropical Storm Agnes struck, and the Susquehanna River overtopped the levee system in the Valley, causing severe damage in many communities. In response, in 1986 the U.S. Congress authorized raising the Wyoming Valley levee system and implementing other flood damage reduction measures. Construction of the levee raising started in the Spring of 1997 and continues.

In the urbanized area of the Wyoming Valley, including the City of Wilkes-Barre, the levee and floodwall system have created a physical, psychological and aesthetic barrier between the communities along the Susquehanna River. Through public workshops in 1999, a conceptual plan was developed for the City of Wilkes-Barre riverfront that would restore the connection between the city and the river. The plan consists of a riverfront park to be located on the riverside of the levee at downtown Wilkes-Barre, which would be accessible through two portals (i.e. gates) in the levee/floodwall system. The Luzerne County Flood Protection Authority, which is the non-Federal project partner for the Wyoming Valley Levee Raising Project, requested that the conceptual riverfront plan be incorporated into the project. This request initiated a general reevaluation report (GRR) and this Draft SEIS to investigate the potential environmental effects to alternative plans based on the conceptual riverfront plan.

The preferred plan for the riverfront park include two portals, a river landing, a fishing platform/dock, and an amphitheater and stage. In addition to these features, miscellaneous recreational amenities (e.g., lights, seating areas with benches, trees/vegetation, educational kiosks, and trash receptacles) would be included. Also, the existing access road at the riverside of the levee would be paved.

A public meeting on the Draft SEIS will be held at Kings College (see DATES). The meeting will provide an opportunity for the public to present oral and/or written comments. All persons and organizations that have an interest in the recreational improvements to the Wyoming Valley Levee as they affect Luzerne County and the environment are urged to attend the meeting and provide comments.

USACE has distributed copies of the Draft SEIS to appropriate members of Congress, State and local government officials, Federal agencies, and other interested parties. Copies are available for public review at the following locations:

(1) Osterhout Free Library, 71 South Franklin Street, Wilkes-Barre, PA 18701.

(2) Osterhout Free Library, South Branch, 2 Airy Street, Wilkes Barre, PA 18702.

(3) D. Leonard Corgan Library, King's College, 14 West Jackson Street, Wilkes-Barre, PA 18711.

You may view the Draft SEIS and related information on our Web page at http://www.nab.usace.army.mil/publications/non-reg_pub.htm.

After the public comment period ends on September 20, 2004, USACE will consider all comments received. The Draft SEIS will be revised as appropriate and a Final SEIS will be issued.

The Draft SEIS has been prepared in accordance with (1) The National Environmental Policy Act (NEPA) of 1969, as amended (42 U.S.C. 4321 et seq.), (2) regulations of the Council on Environmental Quality for implementing the procedural provisions of NEPA (40 CFR parts 1500-1508), and (3) USACE regulations implementing NEPA (ER-200-2-2).

William D. Abadie,
Environmental Team Leader.

[FR Doc. 04-17999 Filed 8-5-04; 8:45 am]

BILLING CODE 3710-41-M